DEPARTMENT OF ENERGY

Federal Energy Regulatory Commission

[Project No. 2514-215]

Appalachian Power Company; Notice of Effectiveness of Withdrawal of Application for Temporary Variance of License

On March 21, 2025, Appalachian Power Company (licensee) filed a request for a temporary variance of license requirements for the 30.1-megawatt Byllesby and Buck Hydroelectric Project No. 2514. On May 12, 2025, the licensee filed a request to withdraw its request.

No motion in opposition to the request for withdrawal has been filed, and the Commission has taken no action to disallow the withdrawal. Pursuant to Rule 216(b) of the Commission's Rules of Practice and Procedure,¹ the withdrawal of the variance request became effective on May 27, 2025, and this proceeding is hereby terminated.

¹ 18 CFR 385.216(b) (2024).

Dated: June 5, 2025.
Debbie-Anne A. Reese,
Secretary.

[FR Doc. 2025-10558 Filed 6-10-25; 8:45 am]

BILLING CODE 6717-01-P